DEPARTMENT OF COMMERCE

International Trade Administration

(A-570-822, A-583-820)

Continuation of Antidumping Duty Orders: Certain Helical Spring Lock Washers from the People's Republic of China and Taiwan

AGENCY: Import Administration, International Trade Administration, Department of Commerce.

SUMMARY: As a result of the determinations by the Department of Commerce (“the Department”) and the International Trade Commission (“ITC”) that revocation of the antidumping duty orders on certain helical spring lock washers from the People's Republic of China (“PRC”) and Taiwan would likely lead to continuation or recurrence of dumping, and material injury to an industry in the United States, the Department is publishing notice of continuation of these antidumping duty orders.

EFFECTIVE DATE: July 3, 2006.

FOR FURTHER INFORMATION CONTACT: Jim Nunno, AD/CVD Operations, Import Administration, International Trade Administration, U.S. Department of Commerce, 14th Street and Constitution Avenue, NW, Washington, DC, 20230; telephone: (202) 482-0783.

SUPPLEMENTARY INFORMATION:

Background

On January 3, 2006, the Department initiated and the ITC instituted sunset reviews of the antidumping duty orders on certain helical spring lock washers from the PRC and Taiwan pursuant to section 751(c) of the Tariff Act of 1930, as amended (“the Act”). ¹

¹ See Initiation of Five-Year (“Sunset”) Reviews, 70 FR 91 (January 3, 2006); and Helical Spring Lock Washers From China and Taiwan, Investigations Nos. 731-TA-624 and 625 (Second Review), 71 FR 133 (January 3, 2006).

As a result of its reviews, the Department found that revocation of the antidumping duty orders would likely lead to continuation or recurrence of dumping, and notified the ITC of the magnitude of the margins likely to prevail were the orders to be revoked.² On June 20, 2006, the ITC published its determination that, pursuant to section 751(c) of the Act, revocation of the antidumping duty orders on certain helical spring lock washers from the PRC and Taiwan would likely lead to continuation or recurrence of material injury to an industry in the United States within a reasonably foreseeable time.³

² See Certain Helical Spring Lock Washers from the People's Republic of China and Taiwan: Final Results of the Expedited Sunset Reviews of the Antidumping Duty Orders, 71 FR 27227 (May 10, 2006).

³ See Helical Spring Lock Washers From China and Taiwan, Investigation Nos. 701-TA-624 and 625 (Second Review), 71 FR 35449 (June 20, 2006).

Scope of the Orders

The products covered by both antidumping duty orders are certain helical spring lock washers of carbon steel, of carbon alloy steel, or of stainless steel, heat-treated or non-heat-treated, plated or non-plated, with ends that are off-line. Certain helical spring lock washers are designed to: (1) function as a spring to compensate for developed looseness between the component parts of a fastened assembly; (2) distribute the load over a larger area for screws or bolts; and (3) provide a hardened bearing surface. The scope does not include internal or external tooth washers, nor does it include spring lock washers made of other metals, such as copper.

Certain helical spring lock washers subject to these orders are currently classifiable under subheading 7318.21.0030 of the Harmonized Tariff Schedule of the United States (“HTSUS”). Although the HTSUS subheading is provided for convenience and customs purposes, the written description of the scope of this proceeding is dispositive.

On September 30, 1997, the Department determined that certain helical spring lock washers which are imported into the United States in an uncut, coil form are within the scope of the orders. See Notice of Scope Rulings, 62 FR 62288 (November 21, 1997).

Determination

As a result of the determinations by the Department and the ITC that revocation of these antidumping duty orders would likely lead to continuation or recurrence of dumping, and material injury to an industry in the United States, pursuant to section 751(d)(2) of the Act, the Department hereby orders the continuation of the antidumping duty orders on certain helical spring lock washers from the PRC and Taiwan.

U.S. Customs and Border Protection will continue to collect antidumping duty cash deposits at the rates in effect at the time of entry for all imports of subject merchandise.

The effective date of continuation of these orders will be the date of publication in the Federal Register of this Notice of Continuation. Pursuant to sections 751(c)(2) and 751(c)(6)(A) of the Act, the Department intends to initiate the next five-year reviews of these orders not later than June 2011.

These five-year (sunset) reviews and this notice are in accordance with section 751(c) of the Act.

Dated: June 27, 2006.
David M. Spooner,
Assistant Secretary for Import Administration.

[FR Doc. E6-10382 Filed 6-30-06; 8:45 am]

BILLING CODE 3510-DS-S